SECURITIES AND EXCHANGE COMMISSION

[File No. 500-1]

Avicena Group, Inc., Northern Ethanol, Inc., Hydrogen Hybrid Technologies, Inc. and Stock-Trak Group, Inc.; Order of Suspension of Trading

February 12, 2009.

It appears to the Securities and Exchange Commission that the public interest and the protection of investors require a suspension of trading in the securities of Avicena Group, Inc., Northern Ethanol, Inc., Hydrogen Hybrid Technologies, Inc. and Stock-Trak Group, Inc. Questions have arisen concerning the trading in the companies' stocks and the accuracy and adequacy of publicly available information regarding the ownership and control of each company.

Avicena Group, Inc. is incorporated in Delaware and headquartered in Palo Alto, California. The company's common stock is quoted on Pink Sheets operated by Pink OTC Markets Inc. (“Pink Sheets”) under the ticker symbol “AVCE.”

Northern Ethanol, Inc. is incorporated in Delaware and headquartered in Toronto, Ontario. The company's common stock is quoted on Pink Sheets under the ticker symbol “NOET.”

Hydrogen Hybrid Technologies, Inc. is incorporated in Nevada and headquartered in Pickering, Ontario. The company's common stock is quoted on the OTC Bulletin Board and Pink Sheets under the ticker symbol “HYHY.”

Stock-Trak Group, Inc. (formerly Neutron Enterprises, Inc.) is incorporated in Nevada and headquartered in Montreal, Quebec. The company's common stock is quoted on the OTC Bulletin Board and Pink Sheets under the ticker symbol “STKG” (formerly “NTRN”).

The Commission is of the opinion that the public interest and the protection of investors require a suspension of trading in the securities of the above-listed companies.

Therefore, it is ordered, pursuant to Section 12(k) of the Securities Exchange Act of 1934, that trading of the securities of the above-listed companies is suspended for the period commencing at 9:30 a.m. EST, February 12, 2009, and terminating at 11:59 p.m. EST, on February 26, 2009.

By the Commission.
Elizabeth M. Murphy,
Secretary.

[FR Doc. E9-3376 Filed 2-12-09; 4:15 pm]

BILLING CODE 8011-01-P